SECURITIES AND EXCHANGE COMMISSION

[File No. 500-1]

Imogo Mobile Technologies Corp.; Order of Suspension of Trading

February 19, 2014.

It appears to the Securities and Exchange Commission that the public interest and the protection of investors require a suspension of trading in the securities of Imogo Mobile Technologies Corp. (“IMTC”) because of questions that have been raised about the accuracy and adequacy of publicly disseminated information concerning, among other things, IMTC's business, revenue, and assets. IMTC is a Nevada corporation based in Bellevue, WA. IMTC's common stock is quoted on OTC Link under the symbol IMTC.

The Commission is of the opinion that the public interest and the protection of investors require a suspension of trading in the securities of the above-listed company.

Therefore, it is ordered, pursuant to Section 12(k) of the Securities Exchange Act of 1934, that trading in the securities of the above-listed company is suspended for the period from 9:30 a.m. EST on February 19, 2014 through 11:59 p.m. EST on March 4, 2014.

By the Commission.
Lynn M. Powalski,
Deputy Secretary.

[FR Doc. 2014-03822 Filed 2-19-14; 4:15 pm]

BILLING CODE 8011-01-P